DEPARTMENT OF AGRICULTURE

National Institute of Food and Agriculture

Solicitation of Input From Stakeholders Regarding the Agriculture and Food Research Initiative

AGENCY: National Institute of Food and Agriculture, USDA.

ACTION: Notice; correction.

SUMMARY: The Department of Agriculture published a document in the Federal Register of February 1, 2012, concerning a notice of public meeting and request for stakeholder input. The document contained the incorrect fax number and minor edits.

FOR FURTHER INFORMATION CONTACT: Effie Baldwin, (202) 401-4891

Correction

(1) In the Federal Register of February 1, 2012 in FR Doc. 2012-2100, on page 4985, in the first column, correct the first full sentence to read:

In September of 2008 and June of 2010, NIFA solicited public comment from persons who use or conduct research, extension, or education activities to assist with guidance to be developed for this new program.

(2) In the Federal Register of February 1, 2012 in FR Doc. 2012-2100, on page 4985, in the first column, correct the first full paragraph to read:

In an effort to improve the quality of the AFRI program, NIFA is again holding a public meeting and soliciting public comments for consideration in the development of future AFRI program solicitations. All written comments received prior to the AFRI Listening Session on February 22, 2012, may be utilized in a question and response document and/or responded to during the session held on February 22, 2012 based on the applicability of the comment to the general population of AFRI stakeholders. However, all comments must be received by close of business on March 22, 2012, to be considered in the initial drafting of the FY 2013 AFRI program solicitations.

(3) In the Federal Register of February 1, 2012 in FR Doc. 2012-2100, on page 4985, in the second column, correct the “Fax” caption to read:

Fax: (202) 401-1782

(4) In the Federal Register of February 1, 2012 in FR Doc. 2012-2100, on page 4985, in the second column, correct the “Mail” STOP caption to read:

STOP 2240

(5) In the Federal Register of February 1, 2012 in FR Doc. 2012-2100, on page 4985, in the second column, correct the FOR FURTHER INFORMATION CONTACT fax number to read:

(202) 401-1782 (fax)

(6) In the Federal Register of February 1, 2012 in FR Doc. 2012-2100, on page 4985, in the second column, correct the SUPPLEMENTARY INFORMATION fax number to read:

fax at (202) 401-1782

(7) In the Federal Register of February 1, 2012 in FR Doc. 2012-2100, on page 4985, in the second column, correct the second line from the bottom to read:

Food Safety; Food Security;

(8) In the Federal Register of February 1, 2012 in FR Doc. 2012-2100, on page 4985, in the third column, correct the first word to read:

Fellows

(9) In the Federal Register of February 1, 2012 in FR Doc. 2012-2100, on page 4985, in the third column, correct the first sentence to read:

The date and time for each webinar will be posted to the following URL, on or before February 22, 2012: http://www.nifa.usda.gov/funding/afri/afri_faq_webinars.html.

(10) In the Federal Register of February 1, 2012 in FR Doc. 2012-2100, on page 4986, in the first column, correct the third sentence to read:

Written comments and suggestions on issues that may be considered in the meeting may be submitted to Ms. Terri Joya at the address above.

Dated: February 7, 2012.
Chavonda Jacobs-Young,
Acting Director, National Institute of Food and Agriculture.

[FR Doc. 2012-3288 Filed 2-10-12; 8:45 am]

BILLING CODE 3410-22-P